DEPARTMENT OF HEALTH AND HUMAN SERVICES

National Institutes of Health

Center for Scientific Review; Amended Notice of Meeting

Notice is hereby given of a change in the meeting of the Skeletal Biology Development and Disease Study Section, February 8, 2018, 8:00 a.m. to February 9, 2018, 3:00 p.m., Westin Baltimore Washington Airport, 1100 Old Elkridge Landing Road, Linthicum Heights, MD, 21090 which was published in the Federal Register on January 5, 2018, 83 FR PG 683. The meeting will be held on February 7, 2018 at 3:00 p.m. and end February 8, 2018 at 9:00 p.m. The meeting location remains the same. The meeting is closed to the public.

Dated: January 25, 2018.
Melanie J. Pantoja,
Program Analyst, Office of Federal Advisory Committee Policy.

[FR Doc. 2018-01821 Filed 1-30-18; 8:45 am]

BILLING CODE 4140-01-P